DEPARTMENT OF ENERGY

Office of Science

Fusion Energy Sciences Advisory Committee; Meeting

AGENCY: Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Wednesday, February 27, 2002, 9 a.m. to 6 p.m.; Thursday, February 28, 2002, 9 a.m. to 12 noon.

ADDRESSES: The Marriott Gaithersburg Washingtonian Center, 9751 Washingtonian Boulevard, Gaithersburg, Maryland 20878, USA.

FOR FURTHER INFORMATION CONTACT: Albert L. Opdenaker, Office of Fusion Energy Sciences; U.S. Department of Energy; 19901 Germantown Road; Germantown, MD 20874-1290; Telephone: 301-903-4927.

SUPPLEMENTARY INFORMATION: Purpose of the Meeting: The main purpose of this meeting is to brief the members of the committee on the preparations for and planning of the Fusion Energy Sciences Summer Workshop. The technical information developed at the workshop will be used by the Committee as input in completing its next charge from the Department of Energy (DOE).

Tentative Agenda

Wednesday, February 27, 2002

• DOE Perspective

• FY 2003 Fusion Budget

• Preparations and Plans for Summer Workshop

• Report from Basic Energy Sciences Advisory Committee Panel on Use of Performance Measures

• Discussion of Possible Joint Office of Fusion Energy Sciences-Mathematical, Information and Computational Sciences Effort on Integrated Modeling

• Presentation of the Results of the Recently Completed Review of the Diagnostics Program

Thursday, February 28, 2002

• Presentation on Status of International Thermonuclear Experimental Reactor (ITER) Negotiations

• Discussion of New Charges

• Public Comments

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW.; Washington, DC, between 9 a.m. and 4 p.m., Monday through Friday, except Federal holidays.

Issued at Washington, DC, on January 29, 2002.
Rachel M. Samuel,
Deputy Advisory Committee Management Officer.

[FR Doc. 02-2600 Filed 2-1-02; 8:45 am]

BILLING CODE 6450-01-P